GENERAL SERVICES ADMINISTRATION

[Notice-ID-2016-01; Docket No. 2016-0002; Sequence No. 6]

Government-Wide Earth Day Hackathon, April 22, 2016

AGENCY: Innovative Technologies and 18F (OCSIT/18F), Office of Citizen Services, General Services Administration (GSA).

ACTION: Notice.

SUMMARY: The purpose of this notice is to announce a software programming and data innovation competition hosted by GSA's, Office of Citizen Services, Innovative Technologies and 18F (OCSIT/18F). GSA's OCSIT/18F Organization will be partnering with the White House Council on Environmental Quality (CEQ), the United States Environmental Protection Agency (EPA), the General Services Administration (GSA), the National Institute of Standards and Technology (NIST), the National Oceanic and Atmospheric Administration (NOAA), the United States Department of Agriculture (USDA), and the United States Forest Service (USFS) to present a Government-wide Earth Day Hackathon, on Friday, April 22, 2016. OCSIT/18F is inviting coders, developers, designers, engineers, data scientists, and Subject Matter Experts (SMEs) from industry, academia, and the federal government to participate. GSA, along with the agencies listed above, will present green and sustainable projects for participants to work on. The competition details can be viewed at http://open.gsa.gov/EarthDayHackathon/.

Participants will be competing on teams to develop smart technology solutions in the form of an application, application programming interface (API), web/mobile application, data mashup, etc., that have the capability to provide the federal government with key insights pertaining to data.

DATES: Online registration for this event will open on March 29, 2016, and will close Tuesday, April 19, 2016, at 11:59 p.m. Eastern Standard Time (EST). The competition will be open on Friday, April 22, 2016, from 9:00 a.m. until 4:30 p.m. Eastern Standard Time (EST); on-site registration at GSA will begin at 8:00 a.m. (EST).

ADDRESSES: Registration: Registration for this event will be accomplished online at the following link: http://open.gsa.gov/EarthDayHackathon/.

The event space is limited to the first 200 people; once registration is complete, participants will receive a confirmation email.

Event Location: GSA Headquarters, 1800 F Street NW., Washington, DC 20405. A government-issued ID shall be required to gain access into the building. All participants must enter through the main entrance located on 1800 F Street NW.

FOR INFORMATION CONTACT: Ms. Cindy A. Smith at cindya.smith@gsa.gov or 816-823-5291.

SUPPLEMENTARY INFORMATION: Purpose: In this competition, participants are asked to develop a technology-driven solution using publicly available data that allows an agency to identify opportunities for improvements and transparency. As such, the Federal Government challenges the participants to create a solution using the data provided. Electronic links to publicly available datasets will be provided through the competition details Web page.

Details of Challenge: Participants will be asked to design and create a digital interactive solution that utilizes federal data collected. The solutions should not simply be analysis tools that tell what is already known; rather, they should be forward-thinking solutions that enhance transparency.

The solution should be a data-driven solution to provide meaningful insights that can help drive smarter decisions by federal employees. The ultimate goal is to help federal agencies use data to identify opportunities for improvements, share data with other federal agencies, and become more transparent to the American public.

The solution should—

1. Visually display or transmit data in a way that will enhance the way federal government works; and

2. Identify relationships through the analysis of the data, if they exist, while providing valuable insights that could be gained through improved data collection efforts.

Predetermined teams (consisting of 5 individuals) are welcome to include a stand-alone or mix of private industry, academia, and eligible individuals. Cash prizes will be awarded to the best projects.

Data: Participants will be provided all final project ideas, existing code, and publicly available datasets in advance of the event. Event information will be posted on the event page at, http://open.gsa.gov/EarthDayHackathon/, and will be updated as necessary.

Projects: Hackathon Projects may include the following:

• CEQ Challenges:

1. Create a visual dashboard on sustainable purchasing, by agency, using data captured in the government-wide procurement system.

2. Create a Web site and/or app that allows federal agencies and/or the public user, if appropriate, to assess whether or not their property is located in an area of wildfire risk.

• EPA's Challenges:

1. Develop a method to identify fraudulent reporting to the EPA using Benford's law of statistical probability.

2. Develop a mobile app that improves environmental awareness through the use of geo-fences.

3. Develop code that can be deployed on Android and iOS mobile apps that displays UV Index Forecast information specific to a defined beach.

4. Develop improved data visualizations or a consolidated dashboard associated with the climate change indicator data.

• GSA's Challenges:

1. Create a browser extension or add-on (for IE or Chrome) that allows users to determine whether the product they are viewing meets federal and agency sustainability requirements.

2. Develop a streamlined management tool to help teams collaborate and incorporate sustainability into any building project.

3. Build an app that allows a user to take a photo of products, building materials, and systems and receive green tips and sustainable purchasing information.

4. Create a phone application (Android or iOS) that allows a user to scan a barcode, or lookup a product, and then notifies the user if the product meets the latest sustainability requirements.

• NIST Challenge: Create an environmentally-friendly product selection Web Interface API.

• NOAA Challenges:

1. Create an API, browser extension or addon (for IE or Chrome) that allows users to compute their custom normals from NOAA's records of surface temperature and precipitation.

2. Create an API or tool that allows users to easily find Next-Generation Radar (NEXRAD) data on Amazon AWS 33.

3. Create an app, browser extension or add-on (for IE or Chrome) that allows users to visualize and/or compute on NOAA's current Multi-Radar Multi-Sensor (MRMS).

• USDA Challenge: Develop methods to present and compare performance on energy and water use in Forest Service facilities.

• USFS Challenge: Develop a prototype of a tool available on the web or as a phone app, that allows users to quickly and easily access shade scores for any neighborhood in the United States.

Eligibility for Challenge: Eligibility to participate in the Government-wide Earth Day Hackathon and win a prize is limited to entities/individuals—

1. That have registered to participate in the competition and complied with the rules of the competition as explained in this posting; and

2. That have been incorporated in and maintain a primary place of business in the United States. In the case of an individual, whether participating singly or in a group, the participant must be a citizen or permanent resident of the United States.

Participants may not be a federal entity or federal employee acting within the scope of employment. However, an individual or entity shall not be deemed ineligible to win prize money because the individual or entity used federal facilities or consulted with federal employees during a competition if the facilities and employees are made available to all individuals and entities participating in the competition on an equitable basis.

Participants agree to assume any and all risks and waive claims against the Federal Government and its related entities, except in the case of willful misconduct, for any injury, death, damage, or loss of property, revenue, or profits, whether direct, indirect, or consequential, arising from participation in this competition, whether the injury, death, damage, or loss arose through negligence or otherwise. Entrants are not required to obtain liability insurance or demonstrate financial responsibility in order to participate in this Hackathon.

As the Federal Government is under a strict duty not to give preferential treatment to any private organization or individual, participants must agree to take diligent care to avoid the appearance of Federal Government endorsement of competition participation and submission. Participants must agree not to refer to the Federal Government's use of their submission (be it product or service) in any commercial advertising or similar promotions in a manner that could reasonably imply (in the judgment of a reasonable person) that the GSA or the Federal Government endorses, prefers, sponsors, or has an affiliation with participants' products or services. Participants agree that GSA's trademarks, logos, service marks, trade names, or the fact that GSA awarded a prize to a participant, shall not be used by the participant to imply direct GSA endorsement of participant or participant's submission. Both participants and GSA may list the other party's name in a publicly available customer or other list so long as the name is not displayed in a more prominent fashion than any other third-party name.

Prizes: GSA may award prizes of no more than $1,000 to each member of a winning team (3 teams total). GSA is not required to award all prizes if the judges determine that a smaller number of entries meet the scope and requirements laid out for this competition, or if the agency only plans to use code from a smaller number of entries.

Funding for the Government-wide Earth Day Hackathon award will come from GSA. Prizes will be awarded to each member of a winning team via Electronic Funds Transfer (EFT), within 60 days of announcing the winner(s).

Requirements: The final solution should be open source code and placed on a GSA site to be specified to participants the day of the event. “Open source” refers to a program in which the source code is available to the general public for use and/or modification from its original design free of charge. In order to be Open Source Initiative Certified, the solution must meet the following ten criteria:

1. The author or holder of the license of the source code cannot collect royalties on the distribution of the program.

2. The distributed program must make the source code accessible to the user.

3. The author must allow modifications and derivations of the work under the program's original name.

4. No person, group, or field of endeavor can be denied access to the program.

5. The rights attached to the program must not depend on the program being part of a particular software distribution.

6. The licensed software cannot place restrictions on other software that is distributed with it.

7. The solution must be an online, interactive solution that meets the goals and objectives provided in this document.

8. The solution must include documentation of all data sources used.

9. The solution must include a description of how the solution can be updated with additional data from other agencies.

10. The solver must provide recommendations to enhance government insights through improvements in data collection.

The winner(s) of the competition will, in consideration of the prize(s) to be awarded, grant to GSA a perpetual, non-exclusive, royalty-free license to use any and all intellectual property to the winning entry for any governmental purpose, including the right to permit such use by any other agency or agencies of the Federal Government. All other rights of the winning entrant will be retained by the winner of the competition.

Scope: Any federal data and information that is publicly available is included in the scope of this challenge. Final project ideas, existing code, and public datasets will be provided in advance of the event.

Judges: There will be a panel of judges, each with expertise in government-wide policy, information technology, and/or acquisition. Judges will award a score to each submission. The winner(s) of the competition will be decided based on the highest average overall score. Judges will only participate in judging submissions for which they do not have any conflicts of interest.

Judging Criteria: Each solution will be assessed based on technical competence and capabilities, use of data to provide effective outcomes, creativity/innovation, and valuable information and insights.

Submissions will be judged based on the following metrics—

Technical Competence and Capabilities/Weight 50%

The solution addresses the primary goals of the Hackathon. It is a finished product that can provide insightful analysis and show the Federal Governmentgovernment how to enhance/improve existing functions, share data across federal agencies and more efficiently utilize existing applications.

Use of Data To Provide Effective Outcomes/Weight 20%

The solution displays in a way that is easy to understand, visually appealing, and will help drive understanding of current trends as well as recommendations.

Creativity/Innovation/Weight 10%

The solution exceeds any internal capability that GSA has for analysis of data through its incorporation of creative design elements and innovative capabilities.

Valuable Information & Insights Regarding Data/Weight 20%

The solver provides recommendations for additional data elements to be collected by the Federal Government. The solver identifies gaps in the data and utilizes external data sources and research to aid the government in setting future data collection policies.

Challenge Objectives:

• Utilize data to create an application, API, and/or data mashup.

• Provide a better understanding of use and needs of current and future data assets.

• Post all open source solutions on the GSA open source code site for future use by the Federal Government developer community and GSA.

All participants are required to check in with Security upon arriving at the GSA Central Office Building. Follow the posted signs to the Conference Center, Rooms 1459, 1460, and 1461.

All participants must sign the document titled: Gratuitous Service Agreement.

Dated: March 23, 2016.
Kris Rowley,
Director, Enterprise Information & Data Mgmt. Ofc.

[FR Doc. 2016-07032 Filed 3-28-16; 8:45 am]

BILLING CODE 6820-34-P